DEPARTMENT OF LABOR

Office of the Secretary

Submission for OMB Review; Comment Request

August 27, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-mail: King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility.

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: New collection.

Agency: Employment and Training Administration (ETA).

Title: Workforce Investment Act (WIA) Employment and Training Administration (ETA) Financial Reporting Requirements for National Farmworkers Jobs Program (NFJP) Under Title I of the Act

OMB Number: 1205-0NEW.

Affected Public: State, Local, or Tribal Government; Not-for-profit institutions.

Number of Respondents: 53.

Number of Annual Responses: 636.

Frequency: Quarterly.

Estimated Time Per Response: 1 hour.

Total Burden Hours: 636.

Total Annualized Capital/Startup Costs: $0.

Total Annual Costs (operating/maintaining systems or purchasing services): $0.

Description: Financial data information collection requirements for the Workforce Investment Act (WIA) Title I programs are contained in the Public Law 105-220, dated August 7, 1998 and WIA Final Rule, 20 CFR 652, et al., dated August 11, 2000.

DOL regulations Part 669—National Farmworkers Jobs Program Under Title I of the Workforce Investment Act, Subpart A, 669.170(b) specifies what WIA regulations apply to the programs funded under WIA section 167. This section states that the general administrative requirements found in 20 CFR part 667 apply, which include reporting requirements at 667.300. This section specifies quarterly financial reporting no later than 45 days after the end of each quarter for all WIA Title I grantees.

Darrin A. King,
Acting Departmental Clearance Officer.

[FR Doc. 01-22530 Filed 9-6-01; 8:45 am]

BILLING CODE 4510-30-M